FEDERAL COMMUNICATIONS COMMISSION

Deletion of Agenda Item From October 10th Open Meeting

October 9, 2002.

The following item has been deleted from the list of agenda items scheduled for consideration at the October 10, 2002, Open Meeting and previously listed in the Commission's Notice of October 3, 2002. This item has been adopted by the Commission.

Item No. | Bureau | Subject
3 | Enforcement | Title: SBC Communications, Inc., Apparent Liability for Forfeiture. Summary: The Commission will consider a Forfeiture Order concerning compliance with the shared transport condition of the SBC/Ameritech merger order.

Federal Communications Commission.
Marlene H. Dortch,
Secretary.

[FR Doc. 02-26555 Filed 10-15-02; 10:44 am]

BILLING CODE 6712-01-P